DEPARTMENT OF COMMERCE

Foreign-Trade Zones Board

[Order No. 1283]

Grant of Authority for Subzone Status, Faurecia Interior Systems (Inc.) (Automotive Interior Components), Fountain Inn, SC

Pursuant to its authority under the Foreign-Trade Zones Act of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board (the Board) to grant to qualified corporations the privilege of establishing foreign-trade zones in or adjacent to U.S. Customs ports of entry;

Whereas, the Board's regulations (15 CFR part 400) provide for the establishment of special-purpose subzones when existing zone facilities cannot serve the specific use involved, and when the activity results in a significant public benefit and is in the public interest;

Whereas, the South Carolina State Ports Authority, grantee of Foreign-Trade Zone 38, has made application for authority to establish special-purpose subzone status at the automotive interior components manufacturing plant of Faurecia Interior Systems (Inc.) (a.k.a. SIA Automotive USA), located in Fountain Inn, South Carolina (FTZ Docket 49-2002, filed 10-18-2002);

Whereas, notice inviting public comment was given in the Federal Register (67 FR 66109, 10-30-2002);

Whereas, the Board adopts the findings and recommendations of the examiner's report, and finds that the requirements of the FTZ Act and Board's regulations would be satisfied, and that approval of the application would be in the public interest if approval were subject to a restriction requiring that all foreign textile fabric must be admitted to the subzone under privileged foreign status (19 CFR 146.41);

Now, Therefore, the Board hereby grants authority for subzone status at the automotive interior components manufacturing plant of Faurecia Interior Systems (Inc.), located in Fountain Inn, South Carolina (Subzone 38D), at the location described in the application, subject to the FTZ Act and the Board's regulations, including Section 400.28 and the foregoing restriction.

Signed at Washington, DC, this 21st day of August 2003.
Jeffrey May,
Acting Assistant Secretary of Commerce for Import Administration, Alternate Chairman, Foreign-Trade Zones Board.

[FR Doc. 03-22440 Filed 9-2-03; 8:45 am]

BILLING CODE 3510-DS-P